FEDERAL COMMUNICATIONS COMMISSION

Notice of Public Information Collection(s) Being Submitted to OMB for Review and Approval

October 10, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 19, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0652.

Title: Section 76.309, Customer Service Obligations; Section 76.1602, Customer Service—General Information; Section 76.1603, Customer Service—Rate and Service Changes; and Section 76.1619, Information on Subscriber Bills.

Form Number: N/A.

Type of Review: Revision of a currently approved collection.

Respondents: Business or other for-profit entities; State, local, or tribal government.

Number of Respondents: 10,410.

Estimated Time per Response: 10 mins. to 1 hr.

Frequency of Response: On occasion reporting requirements; Third party disclosure.

Total Annual Burden: 32,527 hrs.

Total Annual Costs: None.

Needs and Uses: FCC rules under 47 CFR 76.309 and 76.1603 set forth various customer service obligations and notification requirements for changes in subscriber rates, programming services, and channel positions. 47 CFR 76.1602 requires each local franchise authority (LFA) to provide affected cable operators with 90 days written notice of its intent to enforce customer service standards. Cable operators must inform subscribers in writing of their right to file complaints about service and programming changes. 47 CFR 76.1603 requires cable companies to notify customers in writing within 30 days of any changes in rates and programming services. In addition, cable companies are required to notify subscribers and LFAs within 30 days prior to any rate or service changes. 47 CFR 76.1619 requires cable operators to respond to a written complaint regarding any subscriber's billing dispute within 30 days and also sets forth requirements for information on subscriber bills.

OMB Control Number: 3060-0667.

Title: Section 76.630, Compatibility with Consumer Electronic Equipment; Section 76.1621, Equipment Compatibility Offer; and Section 76.1622, Consumer Education of Equipment Compatibility.

Form Number: N/A.

Type of Review: Revision of a currently approved collection.

Respondents: Businesses or other for-profit entities.

Number of Respondents: 10,400.

Estimated Time per Response: 1 to 20 hrs.

Frequency of Response: On occasion and annual reporting requirements; Third party disclosure.

Total Annual Burden: 10,435 hrs.

Total Annual Costs: $5,275.

Needs and Uses: FCC Rules under 47 CFR 76.630(a) prohibit cable system operators from scrambling or otherwise encrypting signals carried on the basic service tier, unless granted a waiver by the FCC. 47 CFR 76.1621 requires cable system operators that use scrambling, encryption, or similar techniques to offer subscribers special equipment to enable the simultaneous reception of multiple signals. 47 CFR 76.1622 requires cable system operators to provide a consumer education program on compatibility matters to their subscribers in writing when they first subscribe and at least once a year thereafter.

Federal Communications Commission.
Magalie Roman Salas,
Secretary.

[FR Doc. 01-26375 Filed 10-18-01; 8:45 am]

BILLING CODE 6712-01-P